DEPARTMENT OF TRANSPORTATION

Office of the Secretary

Notice of Applications for Certificates of Public Convenience and Necessity and Foreign Air Carrier Permits Filed Under Subpart B (Formerly Subpart Q) During the Week Ending December 1, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22228 and OST-2006-26524.

Date Filed: December 1, 2006.

Due Date for Answers, Conforming Applications, or Motion to Modify Scope: December 22, 2006.

Description: Application of JetBlue Airways Corporation (“JetBlue”) requesting a certificate of public convenience and necessity authorizing JetBlue to engage in foreign scheduled air transportation of persons, property and mail to Cancun, Mexico from Boston, MA.

Renee V. Wright,
Program Manager, Docket Operations, Federal Register Liaison.

[FR Doc. E6-21181 Filed 12-12-06; 8:45 am]

BILLING CODE 4910-9X-P